DEPARTMENT OF HOMELAND SECURITY

U.S. Customs and Border Protection

Approval of Trust Control International as a Commercial Gauger

AGENCY: U.S. Customs and Border Protection, Department of Homeland Security.

ACTION: Notice of approval of Trust Control International as a commercial gauger.

SUMMARY: Notice is hereby given, pursuant to CBP regulations, that Trust Control International has been approved to gauge petroleum and petroleum products for customs purposes for the next three years as of December 2, 2015.

DATES: Effective Dates: The approval of Trust Control International as commercial gauger became effective on December 2, 2015. The next triennial inspection date will be scheduled for December 2018.

FOR FURTHER INFORMATION CONTACT: Approved Gauger and Accredited Laboratories Manager, Laboratories and Scientific Services Directorate, U.S. Customs and Border Protection, 1300 Pennsylvania Avenue NW., Suite 1500N, Washington, DC 20229, tel. 202-344-1060.

SUPPLEMENTARY INFORMATION: Notice is hereby given pursuant to 19 CFR 151.13, that Trust Control International, 11811 East Freeway, Suite 130, Atrium 10 Tower, Houston, TX 77029, has been approved to gauge petroleum and petroleum products for customs purposes, in accordance with the provisions of 19 CFR 151.13. Trust Control International is approved for the following gauging procedures for petroleum and certain petroleum products set forth by the American Petroleum Institute (API):

API chapters | Title
3 | Tank gauging.
7 | Temperature Determination.
8 | Sampling.
12 | Calculations.

Anyone wishing to employ this entity to conduct gauger services should request and receive written assurances from the entity that it is accredited or approved by the U.S. Customs and Border Protection to conduct the specific gauger service requested. Alternatively, inquiries regarding the specific gauger service this entity is accredited or approved to perform may be directed to the U.S. Customs and Border Protection by calling (202) 344-1060. The inquiry may also be sent to cbp.labhq@dhs.gov. Please reference the Web site listed below for a complete listing of CBP approved gaugers and accredited laboratories. http://www.cbp.gov/about/labs-scientific/commercial-gaugers-and-laboratories.

Dated: April 15, 2016.
Ira S. Reese,
Executive Director, Laboratories and Scientific Services Directorate.

[FR Doc. 2016-09633 Filed 4-25-16; 8:45 am]

BILLING CODE 9111-14-P